FEDERAL COMMUNICATIONS COMMISSION

47 CFR Part 25

[IB Docket No. 12-267; FCC 13-111]

Comprehensive Review of Licensing and Operating Rules for Satellite Services.

AGENCY: Federal Communications Commission.

ACTION: Final rule; correction.

SUMMARY: The Federal Communications Commission published in the Federal Register of February 12, 2014, a document concerning revisions in the Commission's rules. The document inadvertently failed to include an amendatory instruction. This document corrects the omission of that instruction.

DATES: The final rule published February 12, 2014, at 79 FR 8308, contains information collection requirements that have not been approved by the Office of Management and Budget (OMB). The Commission will publish a document in the Federal Register announcing the effective date of the rule, this correction, and all other rules adopted by FCC 13-111 after receiving approval from the OMB for the information collection requirements contained in the rulemaking.

FOR FURTHER INFORMATION CONTACT: Cindy Spiers, Satellite Division, International Bureau, Federal Communications Commission, Washington, DC 20554, at (202) 418-1593 or via email at Cindy.Spiers@fcc.gov.

SUPPLEMENTARY INFORMATION: On February 12, 2014, at 79 FR 8308, a document inadvertently failed to include an instruction to revise the introductory text of paragraph (b) in section 25.140. This document corrects the omission of that instruction.

In FR Doc. 2014-02213 79 FR 8308, February 12, 2014, the following correction is made:

§ 25.140 [Corrected]

On page 8319, in the third column, instruction c in paragraph 19, “Remove and reserve paragraphs(b)(1) and (2)”, is corrected to read “Revise paragraph (b) introductory text to read as follows and remove and reserve paragraphs(b)(1) and (2)”.

Federal Communications Commission.
Marlene H. Dortch,
Secretary.

[FR Doc. 2014-17962 Filed 7-30-14; 8:45 am]

BILLING CODE 6712-01-P